DEPARTMENT OF HOMELAND SECURITY

U.S. Immigration and Customs Enforcement

[OMB Control Number 1653-0021]

Agency Information Collection Activities; Extension, Without Change, of a Currently Approved Collection: Application for a Stay of Deportation or Removal

AGENCY: U.S. Immigration and Customs Enforcement, Department of Homeland Security.

ACTION: 30-Day notice.

SUMMARY: In accordance with the Paperwork Reduction Act (PRA) of 1995 the Department of Homeland Security (DHS), U.S. Immigration and Customs Enforcement (ICE) will submit the following Information Collection Request (ICR) to the Office of Management and Budget (OMB) for review and clearance. This information collection was previously published in the Federal Register on June 9, 2023, allowing for a 60-day comment period. ICE received one non-substantive comment. The purpose of this notice is to allow an additional 30 days for public comments.

DATES: Comments are encouraged and will be accepted until September 21, 2023.

ADDRESSES: Written comments and recommendations for the proposed information collection should be sent within 30 days of the publication of this notice to www.reginfo.gov/public/do/PRAMain. Find this particular information collection by selecting “Currently under 30-day Review—Open for Public Comments” or by using the search function.

FOR FURTHER INFORMATION CONTACT: For specific question related to collection activities, please contact James Laforge, ERO Domestic Operations, (973-392-8026), james.a.laforge@ice.dhs.gov, U.S. Immigration and Customs Enforcement.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, without change, of a currently approved collection.

(2) Title of the Form/Collection: Application for a Stay of Deportation or Removal.

(3) Agency form number, if any, and the applicable component of the Department of Homeland Security sponsoring the collection: I-246, U.S. Immigration and Customs Enforcement.

(4) Affected public who will be asked or required to respond, as well as a brief abstract: Primary: individual or households, business or other non-profit; The information collected on the I-246 is necessary for ICE to make a determination the eligibility requirements for a request for a stay of deportation or removal are met by the applicant.

(5) An estimate of the total number of responses and the amount of time estimated for an average respondent to respond: ICE estimates a total of 3,664 responses at 30 minutes (.50 hours) per response

(6) An estimate of the total public burden (in hours) associated with the collection: 1,832 annual burden hours.

Dated: August 17, 2023.
Scott Elmore,
ICE PRA Clearance Officer, U.S. Immigration and Customs Enforcement, Department of Homeland Security.

[FR Doc. 2023-18004 Filed 8-21-23; 8:45 am]

BILLING CODE P